DEPARTMENT OF HEALTH AND HUMAN SERVICES

Administration for Children and Families

Proposed Information Collection Activity; Comment Request Proposed Projects

Title: Performance Progress Report (PPR).

OMB No.: New Collection.

Description: This report will be used to establish a uniform format for reporting performance on grants and cooperative agreements issued by the Administration for Children and Families (ACF) and its partners. In addition to allowing for uniformity of information collection, this report will support systematic electronic collection and submission of information. This report will provide interim and final performance progress information as required by OMB Circulars A-102 and A-110. Also, the PPR will allow for the measurement of performance, implement Public Law 106-107, and the President's Management Agenda.

The PPR consists of a cover page and six optional forms. The cover page contains identifying data elements and a section for a performance narrative. Use of the cover page is mandatory, and programs may simply require their respondents to submit this page and attach a performance narrative, or, programs may require the cover page and one or more of the six optional forms.

Respondents: ACF and ACF Partner Grantees.

Annual Burden Estimates
Instrument | Number of respondents | Number of responses per respondent | Average burden hours per response | Total burden hours
Performance Progress Report (SF-PPR) | 16,864 | 1 | .416666 | 7,027
Performance Measures (SF-PPR-A) | 755 | 1 | .75 | 566
Program Indicators (SF-PPR-B) | 3,075 | 1 | .166666 | 512
Benchmark Evaluations (SF-PPR-C) | 249 | 1 | 1.50 | 374
Table of Activity Results (SF-PPR-D) | 3,019 | 1 | .75 | 2,264
Activity Based Expenditures (SF-PPR-E) | 2,779 | 1 | .333333 | 926
Program/Project Management (SF-PPR-F) | 37 | 1 | .50 | 19

Estimated Total Annual Burden Hours: 11,688.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. consideration will be given to comments and suggestions submitted within 60 days of this publication.

Dated: April 2, 2007.
Robert Sargis,
Reports Clearance Officer.

[FR Doc. 07-1676 Filed 4-4-07; 8:45 am]

BILLING CODE 4184-01-M